SMALL BUSINESS ADMINISTRATION

[Disaster Declaration #17286 and #17287; Kentucky Disaster Number KY-00087]

Presidential Declaration Amendment of a Major Disaster for the Commonwealth of Kentucky

AGENCY: U.S. Small Business Administration.

ACTION: Amendment 5.

SUMMARY: This is an amendment of the Presidential declaration of a major disaster for the Commonwealth of Kentucky (FEMA-4630-DR), dated 12/12/2021.

Incident: Severe Storms, Straight-line Winds, Flooding, and Tornadoes.

Incident Period: 12/10/2021 through 12/11/2021.

DATES: Issued on 02/14/2022.

Physical Loan Application Deadline Date: 03/14/2022.

Economic Injury (EIDL) Loan Application Deadline Date: 09/12/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the Commonwealth of Kentucky, dated 12/12/2021, is hereby amended to extend the deadline for filing applications for physical damages as a result of this disaster to 03/14/2022.

All other information in the original declaration remains unchanged.

(Catalog of Federal Domestic Assistance Number 59008)

Barbara Carson,
Acting Associate Administrator for Disaster Assistance.

[FR Doc. 2022-03550 Filed 2-17-22; 8:45 am]

BILLING CODE 8026-03-P